DEPARTMENT OF THE INTERIOR

Fish and Wildlife Service

50 CFR Part 20

Service Regulations Committee Meeting

AGENCY: Fish and Wildlife Service, Interior.

ACTION: Notice of meeting.

SUMMARY: The Fish and Wildlife Service (hereinafter Service) will conduct an open meeting on January 30, 2008, to identify and discuss preliminary issues concerning the 2008-09 migratory bird hunting regulations.

DATES: The meeting will be held January 30, 2008.

ADDRESSES: The Service Regulations Committee will meet at the Embassy Suites Hotel, Denver—International Airport, 7001 Yampa Street, Denver, Colorado, (303) 574-3000.

FOR FURTHER INFORMATION CONTACT: Robert Blohm, Chief, Division of Migratory Bird Management, U.S. Fish and Wildlife Service, Department of the Interior, ms-4107-ARLSQ, 1849 C Street, NW., Washington, DC 20240, (703) 358-1714.

SUPPLEMENTARY INFORMATION: Under the authority of the Migratory Bird Treaty Act (16 U.S.C. 703-712), the U.S. Fish and Wildlife Service regulates the hunting of migratory game birds. We update the migratory game bird hunting regulations, located at 50 CFR part 20, annually. Through these regulations, we establish the frameworks, or outside limits, for season lengths, bag limits, and areas for migratory game bird hunting. To help us in this process, we have administratively divided the nation into four Flyways (Atlantic, Mississippi, Central, and Pacific), each of which has a Flyway Council. Representatives from the Service, the Service's Migratory Bird Regulations Committee, and Flyway Council Consultants will meet on January 30, 2008, at 8:30 a.m. to identify preliminary issues concerning the 2008-09 migratory bird hunting regulations for discussion and review by the Flyway Councils at their March meetings.

In accordance with Departmental policy regarding meetings of the Service Regulations Committee attended by any person outside the Department, these meetings are open to public observation.

Paul R. Schmidt,
Assistant Director, Migratory Birds, U.S. Fish and Wildlife Service.

[FR Doc. E7-24588 Filed 12-18-07; 8:45 am]

BILLING CODE 4310-55-P